DEPARTMENT OF AGRICULTURE

Rural Utilities Service

Information Collection Activity; Comment Request

AGENCY: Rural Utilities Service, USDA.

ACTION: Notice and request for comments.

SUMMARY: In accordance with the Paperwork Reduction Act of 1995, the United States Department of Agriculture's Rural Utilities Service (RUS), invites comments on this information collection for which the Agency intends to request approval from the Office of Management and Budget (OMB).

DATES: Comments on this notice must be received by November 24, 2017.

FOR FURTHER INFORMATION CONTACT: Thomas P. Dickson, Acting Director, Program Development and Regulatory Analysis, USDA Rural Utilities Service, 1400 Independence Avenue SW., STOP 1522, Room 5164-S, Washington, DC 20250-1522. Telephone: (202) 690-4492, Fax: (202) 720-3485. Email: Thomas.Dickson@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for extension.

Comments are invited on: (a) Whether this collection of information is necessary for the proper performance of the functions of the Agency, including whether the information will have practical utility; (b) The accuracy of the Agency's estimate of the burden of the collection of information including the validity of the methodology and assumptions used; (c) Ways to enhance the quality, utility, and clarity of the information to be collected; and (d) Ways to minimize the burden of the collection of information on those who respond, including through the use of appropriate automated, electronic, mechanical or other technological collection techniques, or other forms of information technology. Comments may be sent to Thomas P. Dickson, Acting Director, Program Development and Regulatory Analysis, USDA Rural Utilities Service, 1400 Independence Avenue SW., Stop 1522, Washington, DC 20250-1522. Telephone: (202) 690-4492, Fax: (202) 720-3485, Email: Thomas.Dickson@wdc.usda.gov.

Title: 7 CFR part 1724, Electric Engineering, Architectural Services and Design Policies and Procedures.

OMB Control Number: 0572-0118.

Type of Request: Extension of a currently approved collection.

Abstract: The Agency requires borrowers to use standard contract forms under certain circumstances. The use of standard forms helps assure the Agency that appropriate standards and specifications are maintained, that the Agency's loan security is not adversely affected, and that loan and loan guarantee funds are used effectively and for the intended purpose. Standardization of forms by the Agency results in substantial savings to Borrowers. If standard forms were not used, borrowers would be required to prepare documents and the government would require extensively and costly review by both the Agency and the Office of General Counsel. The contract forms included in this collection of information are RUS Form 211, “Engineering Service Contract for the Design and Construction of a Generating Plant,” RUS Form 220, “Architectural Services Contract,” and RUS Form 236, Engineering Service Contract, “Electric System Design and Construction.”

Estimate of Burden: Public reporting burden for this collection of information is estimated to average 1.07 hours per response.

Respondents: Businesses, not-for-profit institutions and others.

Estimated Number of Respondents: 59.

Estimated Number of Responses per Respondent: 1.

Estimated Total Annual Burden on Respondents: 63 hours.

Copies of this information collection can be obtained from Rebecca Hunt, Program Development and Regulatory Analysis, at (202) 205-3660. Fax: (202) 720-3485.

All responses to this notice will be summarized and included in the request for OMB approval. All comments will also become a matter of public record.

Dated: September 8, 2017.
Christopher A. McLean,
Acting Administrator, Rural Utilities Service.

[FR Doc. 2017-20340 Filed 9-22-17; 8:45 am]

BILLING CODE P